ENVIRONMENTAL PROTECTION AGENCY

[EPA-HQ-OAR-2025-0086; FRL 13088-01-OMS]

Agency Information Collection Activities Request; Submission to the Office of Management and Budget for Review and Approval; Comment Request; EPA's ENERGY STAR Product Labeling (Renewal)

AGENCY: Environmental Protection Agency (EPA).

ACTION: Notice.

SUMMARY: The Environmental Protection Agency (EPA) has submitted an information collection request (ICR), EPA's ENERGY STAR Product Labeling (EPA ICR Number 2078.09, OMB Control Number 2060-0528) to the Office of Management and Budget (OMB) for review and approval in accordance with the Paperwork Reduction Act. This is a proposed extension of the ICR, which is currently approved through November 30, 2025. Public comments were previously requested via the Federal Register on August 1, 2025 during a 60-day comment period. This notice allows for an additional 30 days for public comments.

DATES: Comments must be submitted on or before December 22, 2025.

ADDRESSES: Submit your comments to EPA, referencing Docket ID No. EPA-HQ-OAR-2003-0033, to EPA online using www.regulations.gov (our preferred method), a-and-r-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Vokes, Climate Protection Partnerships Division, Office of Air and Radiation, Mailcode 6202A, Environmental Protection Agency, 1200 Pennsylvania Ave. NW, Washington, DC 20460; telephone number: 202-564-8538; fax number: 202-343-2200; email address: vokes.katherine@epa.gov.

SUPPLEMENTARY INFORMATION: This is a proposed extension of the ICR, which is currently approved through November 30, 2025. An agency may not conduct or sponsor and a person is not required to respond to a collection of information unless it displays a currently valid OMB control number.

Public comments were previously requested via the Federal Register on August 1, 2025 during a 60-day comment period (90 FR 36159). This notice allows for an additional 30 days for public comments. Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: ENERGY STAR is a voluntary program developed in collaboration with industry to create a self-sustaining market for energy efficient products. The ENERGY STAR label is a registered certification label that helps consumers identify products that meet ENERGY STAR energy performance criteria. To protect the integrity of the label, EPA works to ensure that products carrying the label meet appropriate program requirements.

EPA sets criteria for ENERGY STAR products and facilitates the sale of certified products by providing consumers with information about the products. To set criteria for efficient products, EPA analyzes data on the performance of products and works with stakeholders to set criteria based on established processes.

EPA partners with retailers, energy efficiency program sponsors (EEPS), service providers and product brand owners who wish to use the ENERGY STAR label to differentiate products as more energy efficient. Partners sign Partnership Agreements that require adherence to logo-use guidelines and program requirements, as well as promotion of ENERGY STAR certified products through product offerings.

To have products third-party certified as ENERGY STAR, product brand owner partners are required to have eligible products tested in an EPA-recognized laboratory and certified by an EPA-recognized third-party certification body (CB). EPA maintains an XML-based automated data exchange for CBs to share information with EPA on certified products

To monitor the ongoing performance of products and maintain program integrity, EPA also requires CBs to conduct post-market verification testing of a sampling of ENERGY STAR certified products and share information with EPA on products verified twice a year. For thermostats, there are additional reporting requirements to verify product performance.

To monitor progress and support the best allocation of resources, EPA requires partners to submit data on annual shipments of and installations and incentives for ENERGY STAR certified products. Finally, for any ENERGY STAR recognition, EPA may ask Partners to submit applications if they wish to participate.

Form Numbers: 5900-441, 5900-34, 5900-216, 5900-217, 5900-218, 5900-252, 5900-253, 5900-33, 5900-37, 5900-35, 5900-38, 5900-388, 5900-227, 5900-415, 5900-483, 5900-164, 5900-42, 5900-208, 5900-41, 5900-168, 5900-28, 5900-39, 5900-44, 5900-351, 5900-207, 5900-165, 5900-416, 5900-350, 5900-166, 5900-43, 5900-224, 5900-51, 5900-719, 5900-35, 5900-48, 5900-49, 5900-163, 5900-417, 5900-50, 5900-348, 5900-230, 5900-720, 5900-35, 5900-234, 5900-671, 5900-54, 5900-55, 5900-47, 5900-56, 5900-57, 5900-58, 5900-228, 5900-227.

Respondents/affected entities: Respondents for this information collection request include Partners and Recognized Bodies in ENERGY STAR.

Respondent's obligation to respond: Voluntary.

Estimated number of respondents: 3,877.

Frequency of response: Initially/one-time, on occasion, semi-annually, annually.

Total estimated burden: 44,110 hours (per year). Burden is defined at 5 CFR 1320.03(b).

Total estimated cost: $3,018,554.69 (per year), includes $0 annualized capital or operation & maintenance costs.

Changes in the Estimates: There is an increase in the total estimated respondent burden compared with the ICR currently approved by OMB. Consultations indicated burden estimates required minor changes; the primary driver in the increase in burden was the number of estimated respondents due to an increase in program participation. Total estimated costs also increased slightly as a result of updating the loaded hourly rates for major occupational groups.

Courtney Kerwin,
Director, Regulatory Support Division.

[FR Doc. 2025-20452 Filed 11-19-25; 8:45 am]

BILLING CODE 6560-50-P